FEDERAL RETIREMENT THRIFT INVESTMENT BOARD

Notice of Board Meeting

DATES: November 18, 2022 at 10:00 a.m.

ADDRESSES: Telephonic. Dial-in (listen only) information: Number: 1-202-599-1426, Code: 544 104 083#; or via web: https://teams.microsoft.com/l/meetup-join/19%3ameeting_NzFkZWM1ZTktODVjNS00NTQwLWFjNzgtNzJhOTdiOWNjODA2%40thread.v2/0?context=%7b%22Tid%22%3a%223f6323b7-e3fd-4f35-b43d-1a7afae5910d%22%2c%22Oid%22%3a%227c8d802c-5559-41ed-9868-8bfad5d44af9%22%7d.

FOR FURTHER INFORMATION CONTACT: Kimberly Weaver, Director, Office of External Affairs, (202) 942-1640.

SUPPLEMENTARY INFORMATION:

Board Meeting Agenda

Open Session

1. Approval of the October 25, 2022 Board Meeting Minutes

2. Monthly Reports

(a) Participant Activity Report

(b) Investment Report

(c) Legislative Report

3. Quarterly Reports

(d) Metrics

Closed Session

4. Information covered under 5 U.S.C. 552b(c)(6), (c)(10).

Authority: 5 U.S.C. 552b(e)(1).

Dated: November 4, 2022.
Dharmesh Vashee,
General Counsel, Federal Retirement Thrift Investment Board.

[FR Doc. 2022-24438 Filed 11-8-22; 8:45 am]

BILLING CODE P